DEPARTMENT OF COMMERCE

National Oceanic and Atmospheric Administration

[I.D. 110904G]

Endangered and Threatened Species; Take of Anadromous Fish

AGENCY: National Marine Fisheries Service (NMFS), National Oceanic and Atmospheric Administration (NOAA), Commerce.

ACTION: Application for scientific research permit 1511.

SUMMARY: Notice is hereby given that NMFS has received a scientific research permit application relating to Pacific salmon. The proposed research is intended to increase knowledge of species listed under the Endangered Species Act (ESA) and to help guide management and conservation efforts.

DATES: Comments or requests for a public hearing on the application must be received at the appropriate address or fax number (see ADDRESSES) no later than 5 p.m. Pacific daylight-saving time on December 20, 2004.

ADDRESSES: Written comments on the application should be sent to Protected Resources Division, NMFS, F/NWO3, 525 NE Oregon Street, Suite 500, Portland, OR 97232-2737. Comments may also be sent via fax to 503-230-5435 or by e-mail to resapps.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species (evolutionarily significant unit) is covered in this notice:

Coho salmon (Oncorhynchus kisutch): threatened Southern Oregon/Northern California Coast (SONCC).

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Application Received

Permit 1511

The Oregon Department of Fish and Wildlife (ODFW) is requesting a 5-year research permit to annually take adult and juvenile SONCC coho salmon in various streams in Southwest Oregon. The purposes of the project are to conduct fish presence and absence surveys and to rescue or salvage fish stranded during instream work projects. The work would benefit listed fish in two ways. Presence and absence surveys conducted before beginning instream work projects provide baseline information useful for determining project effects. Rescue and salvage operations increase fish survival in project areas. The ODFW intends to use electrofishing equipment to capture the fish. Most of the fish would be immediately released, but some may be transported short distances away from instream work areas. The ODFW does not intend to kill any of the fish being captured, but a small percentage may die as an unintended result of the research.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: November 15, 2004.
Phil Williams,
Chief, Endangered Species Division, Office of Protected Resources, National Marine Fisheries Service.

[FR Doc. 04-25641 Filed 11-17-04; 8:45 am]

BILLING CODE 3510-22-S